DEPARTMENT OF HOMELAND SECURITY

Coast Guard

[Docket No. USCG-2018-0050]

Towing Safety Advisory Committee

AGENCY: U.S. Coast Guard, Department of Homeland Security.

ACTION: Notice of Federal Advisory Teleconference meeting.

SUMMARY: The Towing Safety Advisory Committee will meet, via teleconference, to discuss the three current tasks assigned to the Committee. The Committee is expected to receive the final reports from the Subcommittee on Load Line Exemption for River Barges on Lakes Erie and Ontario. The Subcommittees on Implementation of Subchapter M and Towing of Liquefied Natural Gas Barges are expected to provide an update on their work. This teleconference will be open to the public.

DATES:

Meeting. The full Committee will meet via teleconference on Wednesday, December 5, 2018, from 1 p.m. until 3 p.m. Eastern Standard Time. Please note that this meeting may close early if the Committee has completed its business. To be able to join the teleconference, contact the individual listed in the FOR FURTHER INFORMATION CONTACT section no later than 1 p.m. on November 28, 2018. To be able to physically attend the meeting at the U.S. Coast Guard Headquarters, pre-register no later than 5 p.m. on November 28, 2018, with the individual listed in the FOR FURTHER INFORMATION CONTACT.

Comments and supporting documentation. To ensure your comments are reviewed by the Committee members before the teleconference, submit your written comments no later than November 28, 2018.

ADDRESSES: The meeting will be held via teleconference. To join the teleconference, contact the individual listed in the FOR FURTHER INFORMATION CONTACT section no later than 1 p.m. on November 28, 2018, to obtain the needed information. The number of teleconference lines is limited and will be available on a first-come, first-served basis. If you prefer to join in person at U.S. Coast Guard Headquarters, it will be hosted in Room 6K15-15, 2703 Martin Luther King Jr. Ave. SE, Washington, DC 20593.

Pre-registration Information. To pre-register contact Mr. Douglas W. Scheffler at Douglas.W.Scheffler@uscg.mil, with TSAC in the subject line and provide your name, company and telephone number; if a foreign national, also provide your country of citizenship, and passport number and expiration date. All attendees will be required to provide a REAL ID Act-compliant, government-issued picture identification card in order to gain admittance to the building. For details about identification required, visit https://www.dhs.gov/real-id.

For information on facilities or services for individuals with disabilities or to request special assistance at the meeting, contact the individual listed in the FOR FURTHER INFORMATION CONTACT as soon as possible.

Written comments must be submitted using Federal eRulemaking Portal: http://www.regulations.gov. If you encounter technical difficulties when trying to submit a comment, contact the individual in the FOR FURTHER INFORMATION CONTACT section of this document.

Instructions: You are free to submit comments at any time, including orally at the teleconference, but if you want Committee members to review your comments before the teleconference, please submit your comments no later than November 28, 2018. We are particularly interested in comments on the issues in the “Agenda” section below. To facilitate public participation, written comments on the issues to be considered by the Committee as listed in the “Agenda” section below. You must include the words “Department of Homeland Security” and the docket number [USCG-2018-0050]. For more information about the privacy and the docket, review the Privacy and Security Notice for the Federal Docket Management System at http://www.regulations.gov/privacyNotice.

Docket Search: For access to the docket to read documents or comments related to this notice, go to http://www.regulations.gov, type USCG-2018-0050 in the Search box, press Enter, and then click on the item you wish to view.

FOR FURTHER INFORMATION CONTACT: Mr. Douglas W. Scheffler, Alternate Designated Federal Officer of the Towing Safety Advisory Committee, 2703 Martin Luther King Jr. Ave. SE, Stop 7509, Washington, DC 20593-7509, telephone 202-372-1087, fax 202-372-8382 or Douglas.W.Scheffler@uscg.mil.

SUPPLEMENTARY INFORMATION: Notice of this meeting is in compliance with the Federal Advisory Committee Act, (Title 5, U.S.C. Appendix). As stated in 33 U.S.C. 1231a, the Towing Safety Advisory Committee provides advice and recommendations to the Department of Homeland Security on matters related to shallow-draft inland and coastal waterway navigation and towing safety.

Agenda

The agenda for the December 5, 2018, teleconference is as follows:

(1) Final report from the Load Line Exemption Review Subcommittee, “Recommendations on Load Line Exemption for River Barges on Lakes Erie and Ontario (Task 17-02)”

(2) Additional tasking for the Subcommittee working on “Recommendations on the Implementation of 46 Code of Federal Regulations Subchapter M—Inspection of Towing Vessels (Task 16-01)”

(3) Progress reports from the other active Subcommittee, the one working on “Recommendations on the Towing of Liquefied Natural Gas Barges (Task 16-03)”

(4) Discussion of manning levels as a new task.

(5) Public Comment period.

A copy of the task statements, draft final reports, and the agenda will be available at https://www.dco.uscg.mil/Our-Organization/Assistant-Commandant-for-Prevention-Policy-CG-5P/Commercial-Regulations-standards-CG-5PS/Office-of-Operating-and-Environmental-Standards/vfos/TSAC/.

During the December 5, 2018 teleconference, a public comment period will be held from approximately 2:45 p.m. to 3 p.m. Speakers are requested to limit their comments to 3 minutes. Please note that this public comment period may start before 2:45 p.m. if all other agenda items have been covered and may end before 3 p.m. if all of those wishing to comment have done so.

Please contact Mr. Douglas W. Scheffler, listed in the FOR FURTHER INFORMATION CONTACT section to register as a speaker.

Dated: November 14, 2018.
Jeffrey G. Lantz,
Director of Commercial Regulations and Standards.

[FR Doc. 2018-25243 Filed 11-19-18; 8:45 am]

BILLING CODE 9110-04-P